Proclamation 11004 of January 19, 2026

Martin Luther King, Jr., Federal Holiday, 2026

By the President of the United States of America

A Proclamation

Today, we honor the noble work of the Reverend Dr. Martin Luther King, Jr., whose commitment to justice paved the way to the full realization of the American promise. Inspired by the tenets enshrined in our Declaration of Independence, we proudly renew our pledge to uphold our Nation's long-cherished principles of liberty, equal justice under the law, and the God-given dignity of the human person.

Beginning in the 1950s, Dr. King pioneered a movement that would go on to triumphantly reaffirm our national conviction that every man, woman, and child is endowed by their Creator with rights to life, liberty, and the pursuit of happiness. On August 28, 1963, he stood on the marble steps of the Lincoln Memorial in Washington, D.C., to unify millions of voices with his legendary articulation of an immortal truth: The measure of a person is found not in the color of their skin but in the content of their character.

More than 60 years after they were first proclaimed, those mighty words remain embedded in every American heart. Dr. King's extraordinary resolve stands as an enduring testament to the unstoppable fire of freedom and, tragically, ultimately cost him his life. As President, I am steadfastly committed to ensuring that our country will always be guided by the same principles that Dr. King defended throughout his life and to upholding the timeless truth that our rights are not granted by government but endowed by Almighty God. To honor his legacy, last year, I proudly ordered the declassification of documents related to his assassination—because more than 50 years after his death, his family and the American people deserved the truth.

Today, we honor the brave men and women who remain steadfast in their commitment to law, order, liberty, and justice for all. We renew our resolve to honor our heritage, reclaim our freedom, and recommit to the truth that America is, was, and forever will be a great Nation.

NOW, THEREFORE, I, DONALD J. TRUMP, President of the United States of America, by virtue of the authority vested in me by the Constitution and the laws of the United States, do hereby proclaim January 19, 2026, as the Martin Luther King, Jr., Federal Holiday. On this day, I encourage all Americans to recommit themselves to Dr. King's dream by engaging in acts of service to others, to their community, and to our Nation.

IN WITNESS WHEREOF, I have hereunto set my hand this nineteenth day of January, in the year of our Lord two thousand twenty-six, and of the Independence of the United States of America the two hundred and fiftieth.

[FR Doc. 2026-01423

Filed 1-22-26; 11:15 am]

Billing code 3395-F4-P